DEPARTMENT OF COMMERCE

National Oceanic and Atmospheric Administration

[RTID 0648-XB735]

Mid-Atlantic Fishery Management Council (MAFMC); Public Meeting

AGENCY: National Marine Fisheries Service (NMFS), National Oceanic and Atmospheric Administration (NOAA), Commerce.

ACTION: Notice; public meeting.

SUMMARY: The Research Steering Committee (RSC) of the Mid-Atlantic Fishery Management Council (Council) will hold a workshop to consider the potential redevelopment of the Council's research set-aside (RSA) program. See SUPPLEMENTARY INFORMATION for agenda details.

DATES: The workshop will be held via webinar on Wednesday, February 16, 2022, from 9 a.m. through 4 p.m.

ADDRESSES: The workshop will take place over webinar with a telephone-only connection option. Details on how to connect to the webinar by computer and by telephone will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The RSC is hosting a workshop to develop recommendations for the possible redevelopment of the Council's RSA program. This is the final workshop in a series four that scoped out research, funding, and enforcement/administration issues and problems associated with the previous RSA program and identified possible considerations and improvements should a new program be redeveloped. During this workshop, participants will review and provide feedback on the recommendations identified from the first three workshops, draft program goals and objectives, and an initial draft strawman of a newly designed RSA program developed by the RSC. Based on the feedback and input received during the workshop, the RSC will then make final recommendations regarding the potential redevelopment of the RSA program to the Council for consideration later in 2022.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: January 18, 2022.
Tracey L. Thompson,
Acting Deputy Director, Office of Sustainable Fisheries, National Marine Fisheries Service.

[FR Doc. 2022-01195 Filed 1-21-22; 8:45 am]

BILLING CODE 3510-22-P